DEPARTMENT OF TRANSPORTATION

Federal Aviation Administration

14 CFR Part 73

[Docket No. FAA-2025-2645; Airspace Docket No. 25-AEA-9]

RIN 2120-AA66

Amendment of Restricted Area R-5201; Fort Drum, NY

AGENCY: Federal Aviation Administration (FAA), DOT.

ACTION: Notice of proposed rulemaking (NPRM).

SUMMARY: This action proposes to amend restricted area R-5201, Fort Drum, NY. The purpose of this proposal is to modify the time of designation for restricted area R-5201 from “Continuous April 1 through September 30 and 0600 through 1800 hours local time, October 1 through March 31; other times by Notice to Airmen (NOTAM) 48 hours in advance” to be “continuous” to align with actual usage. This change does not add additional designated restricted area airspace.

DATES: Comments must be received on or before February 2, 2026.

ADDRESSES: Send comments identified by FAA Docket No. FAA-2025-2645 and Airspace Docket No. 25-AEA-9 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it amends restricted area airspace at Fort Drum, NY, to enhance aviation safety and accommodate essential United States (U.S.) Army training activities.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Avenue, College Park, GA 30337.

Background

The Department of the Army, Fort Drum, NY submitted a proposal, in concurrence with Boston Air Route Traffic Control Center (ARTCC), to the FAA to modify the time of designation for restricted area R-5201, Fort Drum, NY. Restricted area R-5201 has a time of designation of “Continuous April 1 through September 30 and 0600 through 1800 hours local time, October 1 through March 31; other times by NOTAM 48 hours in advance.” Actual usage of restricted area R-5201 over the past two years shows near continuous activation year-round via issuance of a NOTAM. Restricted area R-5201 was utilized 356 days in fiscal year (FY) 2023, and 355 days in FY 2024. This action proposes to modify the time of designation of restricted area R-5201 to “continuous” which would alleviate any confusion due to constantly issuing NOTAMS to activate the restricted area airspace and align with actual usage.

These changes do not represent any changes in lateral or vertical boundaries, operations, or new equipment being utilized in the airspace; nor does it reflect any increase in the number of operations that would be conducted.

The Proposal

The FAA is proposing an amendment to 14 CFR part 73 by amending the time of designation for restricted area R-5201, Fort Drum, NY, to “continuous” to align with actual usage and support Army training requirements.

The FAA proposes to update the using agency for restricted area R-5201 from “Commanding Officer, Fort Drum, NY” to “U.S. Army, Commanding Officer, Fort Drum, NY.” This change follows the FAA's current airspace description format guidance.

Additionally, the FAA proposes to make a minor technical amendment by adding two geographic coordinates to the description of restricted area R-5201. Adding these coordinates to the description of restricted area R-5201 does not change the boundaries of the restricted area, but rather ensures coincident boundary alignment with the adjacent restricted areas R-5202A and R-5202B. The geographic coordinates “lat. 44°09′34″ N, long. 75°40′00″ W” and “lat. 44°06′00″ N , long. 75°28′49″ W” are added to the description of restricted area R-5201.

The full description of the above restricted area is set forth below in the proposed amendments to part 73.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.52 New York (NY) [Amended]

2. Section 73.52 is amended as follows:

* * * * *

R-5201 Fort Drum, NY [Amended]

Boundaries. Beginning at lat. 44°01′05″ N, long. 75°37′14″ W; to lat. 44°03′20″ N, long. 75°40′49″ W; to lat. 44°06′55″ N, long. 75°42′09″ W; to lat. 44°09′34″ N, long. 75°40′00″ W; to lat. 44°10′50″ N, long. 75°38′59″ W; to lat. 44°16′07″ N, long. 75°32′41″ W; to lat. 44°11′24″ N, long. 75°22′59″ W; to lat. 44°07′10″ N, long. 75°26′49″ W; to lat. 44°06′00″ N, long. 75°28′49″ W; thence to the point of beginning.

Designated altitudes. Surface to 23,000 feet MSL.

Time of designation. Continuous.

Controlling agency. FAA, Boston ARTCC.

Using agency. U.S. Army, Commanding Officer, Fort Drum, NY.

* * * * *

Issued in Washington, DC, on December 15, 2025.
Alex W. Nelson,
Acting Manager, Rules and Regulations Group.

[FR Doc. 2025-23090 Filed 12-16-25; 8:45 am]

BILLING CODE 4910-13-P